DEPARTMENT OF HEALTH AND HUMAN SERVICES

Health Resources and Services Administration

Peer Educator Training Sites and Resource and Evaluation Center Cooperative Agreements; Open Competition Announcement

AGENCY: Health Resources and Services Administration, HHS.

ACTION: Extension of Deadline Application Due Date.

SUMMARY: In notice document FR Doc. 02-19908 Filed August 6, 2002, make the correction:

On page 51286 in the seventh column under Application Dates: the deadline date has been extended to be received in the HRSA Grant Application Center by close of business September 9, 2002 (Not Postmarked by).

Dated: August 20, 2002.
Jane M. Harrison,
Director, Division of Policy Review and Coordination.

[FR Doc. 02-21699 Filed 8-26-02; 8:45 am]

BILLING CODE 4165-15-P